DEPARTMENT OF COMMERCE

International Trade Administration

Initiation of Five-Year (“Sunset”) Reviews; Correction

AGENCY: Import Administration, International Trade Administration, Department of Commerce.

In accordance with section 751(c) of the Tariff Act of 1930, as amended (“the Act”), the Department of Commerce (“the Department”) published its notice of five-year (“sunset”) reviews of certain antidumping and countervailing duty orders on January 3, 2005. See Initiation of Five-Year (“Sunset”) Reviews, 70 FR 75 (January 3, 2005). In that notice, the published case number of the antidumping duty order on certain carbon cut-to-length quality steel plate from Japan was incorrect. The correct case number is A-588-847.

FOR FURTHER INFORMATION CONTACT: Martha Douthit, Office of Policy, Import Administration, International Trade Administration, U.S. Department of Commerce at (202) 482-5050.

Dated: January 24, 2005.
Gary Taverman,
Acting Deputy Assistant Secretary for Import Administration.

[FR Doc. E5-338 Filed 1-27-05; 8:45 am]

BILLING CODE: 3510-DS-P